DEPARTMENT OF JUSTICE

[AAG/A Order No. 001-2007]

Privacy Act of 1974; System of Records

Pursuant to the provisions of the Privacy Act of 1974, 5 U.S.C. 552a, notice is given that the Department of Justice proposes to modify all of its systems of records, as identified in the list below.

On October 30, 2006, the Department modified all of its systems of records to include a new routine use that allows disclosure to appropriate persons and entities for purposes of response and remedial efforts in the event that there has been a breach of the data contained in the systems. 71 FR 63,354 (October 30, 2006).

In accordance with 5 U.S.C. 552a(e)(4) and (11), the public was given a 30-day period in which to comment; and the Office of Management and Budget (OMB), which has oversight responsibility under the Privacy Act, required a 40-day period in which to conclude its review of the systems.

As a result of comments received, the Department is making a minor modification to the language of the routine use in order to provide greater clarity. A concern was raised that the condition set forth in clause (1) of the routine use (“when (1) it is suspected or confirmed that the security or confidentiality of information in the system of records has been compromised”) does not clearly identify precisely who has to suspect or confirm the compromise. While it was the intent of the drafters that it be the Department of Justice that must suspect or confirm the compromise, because that intent is expressed only implicitly in the routine use, the Department is modifying the language of the first condition to provide additional clarity.

A description of the modification to the Department's systems of records is provided below. In accordance with 5 U.S.C. 552a(r), the Department has provided a report to OMB and the Congress. The new routine use will be effective January 25, 2007.

Dated: January 22, 2007.
Lee J. Lofthus,
Assistant Attorney General for Administration.

Department of Justice Privacy Act notices and citations follow. An asterisk (*) designates the last publication of the complete document in the Federal Register.

DOJ-001 | Accounting Systems for the Department of Justice | 06-03-04 * 01-03-06 | 69 FR 31406 * 71 FR 142
DOJ-002 | DOJ Computer Systems Activity & Access Records | 12-30-99 | 64 FR 73585
DOJ-003 | Correspondence Management Systems for the Department of Justice; Corrections | 06-04-01 * 06-29-01 10-25-02 | 66 FR 29992 * 66 FR 34743 67 FR 65598
DOJ-004 | Freedom of Information Act, Privacy Act, and Mandatory Declassification Review Requests and Administrative Appeals; Corrections | 06-04-01 * 06-29-01 | 66 FR 29994* 66 FR 34743
DOJ-005 | Nationwide Joint Automated Booking System (JABS) | 09-07-06 | 71 FR 52821
DOJ-006 | Personnel Investigation and Security Clearance Records for the Department of Justice | 09-24-02 * 11-10-04 | 67 FR 59864 * 69 FR 65224
DOJ-007 | Reasonable Accommodations for the Department of Justice | 05-16-02 | 67 FR 34955
DOJ-008 | Department of Justice Grievance Records | 10-29-03 * 08-04-04 | 68 FR 61696 * 69 FR 47179
DOJ-009 | Emergency Contact Systems for the Department of Justice | 01-12-04 | 69 FR 1762
DOJ-010 | Leave Sharing Systems | 04-26-04 * 08-04-04 | 69 FR 22557 * 69 FR 47179
DOJ-011 | Access Control System (ACS) | 12-03-04 | 69 FR 70279
DOJ-012 | Department of Justice Regional Data Exchange System (RDEX) | 07-11-05 * 12-02-05 | 70 FR 39790 * 70 FR 72315
ASG-001 | General Files System of the Office of the Associate Attorney General | 04-27-04 | 69 FR 22872
ATF-001 | Administrative Record System | 01-24-03 | 68 FR 3551, 52
ATF-003 | Criminal Investigation Report System | 01-24-03 | 68 FR 3551, 53
ATF-006 | Internal Security Record System | 01-24-03 | 68 FR 3551, 55
ATF-007 | Personnel Record System | 01-24-03 | 68 FR 3551, 56
ATF-008 | Regulatory Enforcement Record System | 01-24-03 | 68 FR 3551, 58
ATF-009 | Technical and Scientific Services Record System | 01-24-03 | 68 FR 3551, 60
ATF-010 | Training and Professional Development Record System | 01-24-03 | 68 FR 3551, 62
ATR-001 | Antitrust Division Expert Witness File | 10-13-89 | 54 FR 42061
ATR-003 | Index of Defendants in Pending and Terminated Antitrust Cases | 10-10-95 | 60 FR 52690
ATR-004 | Statements by Antitrust Division Officials (ATD Speech File) | 10-10-95 | 60 FR 52691
ATR-005 | Antitrust Management Information System (AMIS)—Time Reporter | 10-17-88 | 53 FR 40502
ATR-006 | Antitrust Management Information System (AMIS)—Monthly Report | 02-20-98 * 03-29-01 | 63 FR 8659* 66 FR 17200
ATR-007 | Antitrust Division Case Cards | 10-10-95 | 60 FR 52692
ATR-009 | Public Complaints and Inquiries File | 11-17-80 | 45 FR 75902
ATR-009 | Consumer Inquiry Index | 09-30-77 | 42 FR 53396
ATR-014 | Civil Investigative Demand (CID) Tracking System | 10-10-95 | 60 FR 52694
BIA-001 | Decisions of the Board of Immigration Appeals | 02-04-83 | 48 FR 5331
BIA-002 | Roster of Organizations and their Accredited Representatives Recognized by the Board of Immigration Appeals | 11-17-80 | 45 FR 75908
BOP-001 | Prison Security and Intelligence Record System | 06-18-02 | 67 FR 41449
BOP-004 | Inmate Administrative Remedy Record System | 09-09-02 | 67 FR 57244
BOP-005 | Inmate Central Records System | 05-09-02 | 67 FR 31371
BOP-006 | Inmate Trust Fund Accounts and Commissary Record System | 03-15-02 | 67 FR 11711
BOP-007 | Inmate Physical and Mental Health Record System | 03-15-02 | 67 FR 11712
BOP-008 | Inmate Safety and Accident Compensation Record System | 06-18-02 | 67 FR 41452
BOP-009 | Administrative Claims Record System | 06-18-02 | 67 FR 41453
BOP-010 | Access Control Entry/Exit System | 04-08-02 | 67 FR 16760
BOP-011 | Telephone Activity Record System | 04-08-02* 02-24-06 | 67 FR 16762* 71 FR 9606
BOP-012 | Office of Internal Affairs Investigative Records | 02-28-02 | 67 FR 9321
BOP-013 | Inmate Electronic Message Record System | 11-06-05 | 70 FR 69594
BOP-014 | Employee Assistance Program (EAP) Record System | 7-31-00 | 65 FR 46739
BOP-015 | Outside Employment Requests Records System | 04-08-02 | 67 FR 16763
BOP-101 | The National Institute of Corrections Technical Resource Provider Record System | 03-02-00 | 65 FR 11342
BOP-103 | National Institute of Corrections Academy Record System | 12-16-99 | 64 FR 70286
BOP-104 | National Institute of Corrections Mailing List & Information Center Contacts Records System | 12-16-99 | 64 FR 70287
CIV-001 | Civil Division Case File System | 02-20-98* 03-29-01 07-12-01 | 63 FR 8659* 66 FR 17200 66 FR 36593
CIV-002 | Civil Division Case File System: Customs Litigation | 01-10-80 | 45 FR 2217
CIV-003 | Office of Alien Property File System | 09-30-77 | 42 FR 53324
CIV-004 | Swine Flu Administrative Claim File System | 09-28-78 | 43 FR 44708
CIV-005 | Annuity Brokers List System | 04-09-03 | 68 FR 17401
CIV-006 | Consumer/Inquiry Investigatory System | 10-17-88 | 53 FR 40506
CIV-008 | September 11th Victim Compensation Fund of 2001 File System | 12-21-01 | 66 FR 65991
COPS-001 | Police Corps System | 01-08-97 | 62 FR 1131
CRM-001 | Central Criminal Division Index File and Associated Records | 02-20-98* 03-29-01 | 63 FR 8659* 66 FR 17200
CRM-002 | Criminal Division Witness Security File | 12-11-87 | 52 FR 47186
CRM-003 | File of Names Checked to Determine if those Individuals Have Been the Subject of an Electronic Surveillance | 12-11-87 | 52 FR 47187
CRM-004 | General Crimes Section, Criminal Division, Central Index File and Associated Records | 12-11-87 | 52 FR 47190
CRM-005 | Index to Names of Attorneys Employed by the Criminal Division, U.S. Department of Justice, Indicating the Subject of the Memoranda on Criminal Matters They Have Written | 12-11-87 | 49 FR 47191
CRM-006 | Information File on Individuals and Commercial Entities Known or Suspected of Being Involved in Fraudulent Activities | 09-30-77 | 42 FR 53336
CRM-007 | Name Card File on Criminal Division Personnel Authorized to have Access to the Central Criminal Division Records | 12-11-87 | 52 FR 47192
CRM-008 | Name Card File on Department of Justice Personnel Authorized to have Access to the Classified Files of the Department of Justice | 12-11-87 | 52 FR 47193
CRM-012 | Organized Crime and Racketeering Section, General Index File and Associated Records | 11-26-90 * 03-29-01 | 55 FR 49147 * 66 FR 17200
CRM-014 | Organized Crime and Racketeering Section, Intelligence and Special Services Unit, Information Request System | 09-30-77 | 42 FR 53343
CRM-017 | Registration and Propaganda Files Under the Foreign Agents Registration Act of 1938, As Amended | 5-11-88 | 53 FR 16794
CRM-018 | Registration Files of Individuals Who Have Knowledge of or Have Received Instruction or Assignment in Espionage, Counterespionage, or Sabotage Service or Tactics of a Foreign Government or of a Foreign Political Party | 12-11-87 | 52 FR 47197
CRM-019 | Requests to the Attorney General for Approval of Applications to Federal Judges for Electronic Interceptions | 12-11-87 | 52 FR 47198
CRM-021 | The Stocks and Bonds Intelligence Control Card File System | 12-11-87 | 52 FR 47199
CRM-022 | Witness Immunity Records | 12-11-87 | 52 FR 47200
CRM-023 | Weekly Statistical Report | 01-10-80 | 45 FR 2195
CRM-025 | Tax Disclosure Index File and Associated Records | 12-11-87 | 52 FR 47202
CRM-026 | International Prisoner Transfer Case Files/International Prisoner Transfer Tracking System | 04-29-03 | 68 FR 22739
CRM-027 | Office of Special Investigation (OSI) Displaced Persons Listings | 12-11-87 | 52 FR 47204
CRM-028 | Organized Crime Drug Enforcement Task Force Fusion Center System | 10-18-04 | 69 FR 61403
CRS-001 | Operational Data Information System | 01-10-80 | 45 FR 2220
CRT-001 | Central Civil Rights Division Index File and Associated Records | 08-11-03 * 07-29-05 | 68 FR 47610, 11 70 FR 43904
CRT-003 | Civil Rights Interactive Case Management System | 08-11-03 | 68 FR 47610, 13
CRT-004 | Registry of Names of Interested Persons Desiring Notifications of Submissions Under Section 5 of the Voting Rights Act | 08-11-03 | 68 FR 47610, 14
CRT-007 | Files on Employment Civil Rights Matters Referred by the Equal Employment Opportunity Commission | 08-11-03 | 68 FR 47610, 15
CRT-009 | Civil Rights Division Travel Reports | 08-11-03 | 68 FR 47610, 16
DAG-003 | Drug Enforcement Task Force Evaluation Reporting System | 03-10-92 | 57 FR 8473
DAG-005 | Master Index File of Names | 10-21-85 | 50 FR 42606
DAG-006 | Presidential Appointee Candidate Records System | 10-21-85 | 50 FR 42607
DAG-007 | Presidential Appointee Records System | 10-21-85 | 50 FR 42608
DAG-008 | Special Candidates for Presidential Appointments and Noncareer SES Positions Records System | 8-31-94 | 59 FR 45005
DAG-009 | Summer Intern Program Records System | 10-21-85 | 50 FR 42611
DAG-010 | United States Judge and Department of Justice Presidential Appointee Records | 10-21-85 | 50 FR 42612
DAG-011 | Miscellaneous Attorney Personnel Records | 10-21-85 | 50 FR 42613
DAG-013 | General Files System | 3-10-92 | 57 FR 8475
DEA-001 | Air Intelligence Program | 12-11-87 | 52 FR 47206
DEA-INS-111 | Automated Intelligence Records System (Pathfinder) | 11-26-90 | 55 FR 49182
DEA-002 | Clandestine Laboratory Seizure System (CLSS) | 01-27-03 | 68 FR 3894
DEA-003 | Automated Records and Consolidated Orders System/Diversion Analysis and Detection System (ARCOS/DADS) | 08-17-04 | 69 FR 51104
DEA-005 | Controlled Substances Act Registration Records (CSA) | 12-11-87 | 52 FR 47208
DEA-008 | Investigative Reporting and Filing System | 10-17-96 | 61 FR 54219
DEA-010 | Planning and Inspection Division Records | 12-11-87 | 52 FR 47213
DEA-011 | Operations Files | 12-11-87 | 52 FR 47214
DEA-012 | Registration Status/Investigation Records | 12-11-87 | 52 FR 47215
DEA-013 | Security Files | 12-11-87 | 52 FR 47215
DEA-015 | Training Files | 12-11-87 | 52 FR 47217
DEA-017 | Grants of Confidentiality Files (GCF) | 12-11-87 | 52 FR 47218
DEA-020 | Essential Chemical Reporting System | 12-11-87 | 52 FR 47219
DEA-021 | DEA Aviation Unit Reporting System | 04-28-00 | 65 FR 24986
DEA-022 | El Paso Intelligence Center (EPIC) Seizure System (ESS) | 06-26-06 | 71 FR 36362
ENRD-001 | Appraisers, Approved Attorneys, Abstractors and Title Companies Files Database System | 02-23-00 * 10-20-05 | 65 FR 8989 * 70 FR 61159
ENRD-003 | Environment & Natural Resources Division Case & Related Files System | 02-23-00 * 10-20-05 | 65 FR 8990 * 70 FR 61159
EOIR-001 | Records and Management Information System | 05-11-04 | 66 FR 26179
EOIR-003 | Practitioner Complaint/Disciplinary Files | 09-10-99 | 64 FR 49237
FBI-001 | National Crime Information Center (NCIC) | 09-28-99 | 64 FR 52343
FBI-002 | The FBI Central Records System | 2-20-98* 03-29-01 | 63 FR 8671* 66 FR 17200
FBI-003 | Bureau Mailing Lists | 02-14-05 | 70 FR 7513
FBI-006 | Electronic Surveillance (ELSUR) Indices | 02-14-05 | 70 FR 7513, 14
FBI-007 | FBI Automated Payroll System | 10-05-93 | 58 FR 51874
FBI-008 | Bureau Personnel Management System | 10-5-93 | 58 FR 51875
FBI-009 | Fingerprint Identification Records System (FIRS) | 09-28-99 | 64 FR 52347
FBI-010 | Employee Travel Vouchers and Individual Earning Records | 12-11-87 | 52 FR 47248
FBI-011 | Employee Health Records | 10-5-93 | 58 FR 51875
FBI-012 | Time Utilization Record-Keeping (TURK) System | 10-5-93 | 58 FR 51876
FBI-013 | Security Access Control System (SACS) | 02-14-05 | 70 FR 7513, 16
FBI-014 | FBI Alcoholism Program | 12-11-87 | 52 FR 47251
FBI-015 | National Center for the Analysis of Violent Crime (NCAVC) | 10-05-93 | 58 FR 51879
FBI-016 | FBI Counterdrug Information Indices System (CIIS) | 06-09-94 | 59 FR 29824
FBI-017 | National DNA Index System (NDIS) | 07-18-96 | 61 FR 37495
FBI-018 | National Instant Criminal Background Check System (NICS) | 11-25-98* 12-14-00 01-22-01 03-01-01 | 63 FR 65223* 65 FR 78190 66 FR 6676 66 FR 12959
FBI-019 | Terrorist Screening Records System | 07-28-05* 12-02-05 | 70 FR 43715* 70 FR 72315
FBI Blanket Routine Uses | FBI established ten “blanket” routine uses (BRUs) to be applicable to more than one FBI system of records | 06-22-01* 02-14-05 | 66 FR 33558* 70 FR 7513
FTTTF-001 | Flight Training Candidates File System | 06-10-02* 07-19-02 | 67 FR 39839* 67 FR 47570
INTERPOL-001 | INTERPOL-United States National Central Bureau (USNCB) Records System | 04-10-02 | 67 FR 17464
JMD-002 | Controlled Substances Act Nonpublic Records | 07-20-01 | 66 FR 38000
JMD-003 | Department of Justice Payroll System | 01-02-04 | 69 FR 107
JMD-006 | Debt Collection Management System | 11-12-93 | 58 FR 60055
JMD-009 | Debt Collection Offset Payment System | 06-19-97 | 62 FR 33438
JMD-016 | Employee Assistance Program (EAP) Counseling and Referral Records | 06-09-00* 09-01-04 | 65 FR 36718* 69 FR 53469
JMD-017 | Department of Justice (DOJ) Employee Transportation Facilitation System | 04-24-01 | 66 FR 20683
JMD-022 | Department of Justice Consolidated Asset Tracking System (CATS) | 05-19-06 | 71 FR 29170
JMD-023 | Federal Bureau of Investigation Whistleblower Case Files | 09-07-05 | 70 FR 53253
JMD-024 | Attorney Student Loan Repayment Program Applicant Files | 11-03-06 | 71 FR 64740
NDIC-001 | National Drug Intelligence Center Data Base | 04-26-93 | 58 FR 21995
OAG-001 | General Files System | 09-12-85 | 50 FR 37294
OIG-001 | Office of the Inspector General Investigative Records System | 03-10-92* 05-22-00 04-29-03 | 57 FR 8476* 65 FR 32125 68 FR 22741
OIG-004 | OIG Employee Training Records | 12-07-99 | 64 FR 68375
OIG-005 | OIG Firearms Qualifications System | 12-07-99 | 64 FR 68376
OIPR-001 | Policy and Operational Records System | 01-26-84 | 49 FR 3281
OIPR-002 | Foreign Intelligence Surveillance Act Records System | 01-26-84 | 49 FR 3282
OIPR-003 | Litigation Records System | 01-26-84 | 49 FR 3284
OJP-001 | Equipment Inventory | 10-05-93 | 58 FR 51879
OJP-004 | Grants Management Information System | 10-17-88 | 53 FR 40526
OJP-006 | Congressional and Public Affairs System | 12-11-87 | 52 FR 47276
OJP-007 | Public Information System | 11-17-80 | 45 FR 75936
OJP-008 | Civil Rights Investigative System | 10-17-88 | 53 FR 40528
OJP-009 | Federal Advisory Committee Membership Files | 10-17-88 | 53 FR 40529
OJP-010 | Technical Assistance Resource Files | 10-17-88 | 53 FR 40430
OJP-011 | Registered Users File—National Criminal Justice Reference Service (NCJRS) | 10-05-93 | 58 FR 51879
OJP-012 | Public Safety Officers Benefits System | 05-10-99 | 64 FR 25070
OJP-013 | Denial of Federal Benefits Clearinghouse System (DEBAR) | 05-10-99 | 64 FR 25071
OJP-014 | Victims of International Terrorism Expense Reimbursement Program | 08-07-06 | 71 FR 44709
OLC-001 | Attorney Assignment Reports | 09-04-85 | 50 FR 35879
OLC-002 | Office of Legal Counsel Central File | 09-04-85 | 50 FR 35878
OLP-002 | United States Judges Records System | 07-25-85 | 50 FR 30309
OLP-003 | General Files System | 09-12-85 | 50 FR 37299
OPA-001 | Executive Clemency Case Files/Executive Clemency Tracking System | 10-31-02 | 67 FR 66417
OPR-001 | Office of Professional Responsibility Records Index | 12-10-98* 11-27-02 04-20-04 | 63 FR 68299* 67 FR 70967 69 FR 21160
OSCW-001 | Caselink Document Database for Office of Special Counsel—Waco | 09-05-00 | 65 FR 53749
PAO-001 | News Release, Document and Index System | 09-30-77 | 42 FR 53364
PRC-001 | Docket, Scheduling and Control | 12-11-87 | 52 FR 47281
PRC-003 | Inmate and Supervision Files | 03-10-88 | 53 FR 7313
PRC-004 | Labor and Pension Case, Legal File and General Correspondence System | 10-17-88 | 53 FR 40533
PRC-005 | Office Operation and Personnel System | 10-17-88 | 53 FR 40535
PRC-006 | Statistical, Educational and Developmental System | 12-11-87 | 52 FR 47287
PRC-007 | Workload Record, Decision Result, and Annual Report System | 10-17-88 | 53 FR 40535
TAX-001 | Criminal Tax Case Files, Special Project Files, Docket Cards, and Associated Records | 03-07-06 | 71 FR 11446, 47
TAX-002 | Tax Division Civil Tax Case Files, Docket Cards, and Associated Records | 03-07-06 | 71 FR 11446, 49
TAX-003 | Files of Applications for Attorney and Non-Attorney Positions with the Tax Division | 03-07-06 | 71 FR 11446, 51
USA-001 | Administrative Files | 12-22-83 | 48 FR 56662
USA-002 | A.U.S.A. Applicant Files | 08-23-83 | 48 FR 38329
USA-003 | Citizen Complaint Files | 10-13-89 | 54 FR 42088
USA-005 | Civil Case Files | 02-20-98* 03-29-01 | 63 FR 8659 66 FR 17200
USA-006 | Consumer Complaints | 10-13-89 | 54 FR 42090
USA-007 | Criminal Case Files | 02-20-98* 12-21-99 03-29-01 | 63 FR 8659* 64 FR 71499 66 FR 17200
USA-009 | Kline District of Columbia and Maryland Stock and Land Fraud Inter-relationship Filing System | 10-13-89 | 54 FR 42093
USA-010 | Major Crimes Division Investigative Files | 10-13-89 | 54 FR 42094
USA-011 | Prosecutor’s Management Information System (PROMIS) | 10-13-89 | 54 FR 42095
USA-012 | Security Clearance Forms for Grand Jury Reporters | 02-04-83 | 48 FR 5386
USA-013 | U.S. Attorney, District of Columbia Superior Court Division, Criminal Files | 10-13-89 | 54 FR 42097
USA-014 | Pre-Trial Diversion Program Files | 08-23-83 | 48 FR 38344
USA-015 | Debt Collection Enforcement System | 07-25-06 | 71 FR 42118
USA-016 | Assistant United States Attorney Applicant Records System | 03-10-92 | 57 FR 8487
USA-017 | Appointed Assistant United States Attorneys Personnel System | 03-10-92 | 57 FR 8488
USA-018 | United States Attorneys' Office Giglio Information Files | 12-01-00 | 65 FR 75308
USA-020 | Employee Assistance Program (EAP) Counseling and Referral Records | 03-20-01 | 66 FR 15755
USM-001 | United States Marshals Service Badge and Credentials File | 11-08-99 | 64 FR 60832, 33
USM-002 | United States Marshals Service Internal Affairs System | 11-08-99 | 64 FR 60832, 34
USM-003 | United States Marshals Service Prisoner Transportation System | 09-06-91 | 56 FR 44101
USM-004 | Special Deputation Files | 11-08-99 | 64 FR 60832, 35
USM-005 | U.S. Marshals Service Prisoner Processing and Population Management/Prisoner Tracking System (PPM/PTS) | 04-28-04 | 69 FR 23213
USM-006 | United States Marshals Service Training Files | 11-08-99 | 64 FR 60832, 38
USM-007 | Warrant Information Network (WIN) | 11-08-99 | 64 FR 60832, 39
USM-008 | Witness Security Files Information System | 11-08-99 | 64 FR 60832, 40
USM-009 | Inappropriate Communications/Threat Information System | 11-08-00 | 64 FR 60832, 41
USM-010 | Judicial Facility Security Index System | 11-08-99 | 64 FR 60832, 42
USM-011 | Judicial Protection Information System | 11-08-99 | 64 FR 60832, 43
USM-013 | U.S. Marshals Service Administration Proceedings, Claims and Civil Litigation Files | 11-08-99 | 64 FR 60832, 45
USM-015 | U.S. Marshals Service (USMS) Employee Assistance Program (EAP) Records | 11-08-99 | 64 FR 60832, 47
USM-016 | U.S. Marshals Service (USMS) Key Control Record System | 11-08-99 | 64 FR 60832, 48
USM-017 | Judicial Security Staff Inventory | 11-08-99 | 64 FR 60849, 50
USM-018 | Alternative Dispute Resolution (ADR) Files and Database Tracking System | 11-08-99 | 64 FR 60849, 51
USM-019 | Merit Promotion Open Season Records System (MPOS) | 05-23-06 | 71 FR 29668
UST-001 | Bankruptcy Case Files and Associated Records | 10-11-06 | 71 FR 59818, 19
UST-002 | Bankruptcy Trustee Oversight Records | 10-11-06 | 71 FR 59818, 22
UST-003 | U.S. Trustee Program Timekeeping Records | 10-11-06 | 71 FR 59818, 24
UST-004 | United States Trustee Program Case Referral System | 10-11-06 | 71 FR 59818, 25
UST-005 | Credit Counseling and Debtor Education Files and Associated Records | 10-11-06 | 71 FR 59818, 27

* * * * *

Routine Uses of Records Maintained in the System, Including Categories of Users and the Purposes of Such Uses:

To appropriate agencies, entities, and persons when (1) The Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

* * * * *

[FR Doc. E7-1176 Filed 1-24-07; 8:45 am]

BILLING CODE 4410-FB-P